DEPARTMENT OF HEALTH AND HUMAN SERVICES

National Institutes of Health

Proposed Collection; 60-Day Comment Request; Scientific Information Reporting System (SIRS) (NIGMS)

AGENCY: National Institutes of Health, HHS.

ACTION: Notice.

SUMMARY: In compliance with the requirement of the Paperwork Reduction Act of 1995 to provide opportunity for public comment on proposed data collection projects, the National Institute of General Medical Sciences (NIGMS), will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Ming Lei, Director, Division for Research Capacity Building NIGMS, NIH, 45 Center Drive, Room 2AS44C, MSC-6200, Bethesda, Maryland 20892 or call non-toll-free number (301) 827-5323 or email your request, including your address to: leim@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance quality, utility, and clarity of the information to be collected; and (4) Ways to minimize the burden of the collection of information on those who are to respond, including the use of appropriate automated, electronic, mechanical, or other technological collection techniques or other forms of information technology.

Proposed Collection Title: Scientific Information Reporting System (SIRS), 0925-0735, Expiration Date 10/31/2022, REINSTATEMENT WITHOUT CHANGE, National Institute of General Medical Sciences (NIGMS), National Institutes of Health (NIH).

Need and Use of Information Collection: The SIRS is an online data collection system whose purpose is to obtain supplemental information to the annual Research Performance Progress Report (RPPR) submitted by grantees of the Institutional Development Award (IDeA) Program and the Native American Research Centers for Health (NARCH) Program. The SIRS will collect program-specific data not requested in the RPPR data collection system. The IDeA Program is a congressionally mandated, long-term interventional program administered by NIGMS aimed at developing and/or enhancing the biomedical research competitiveness of States and Jurisdictions that lag in NIH funding. The NARCH Program is an interagency initiative that provides support to American Indian and Alaska Native (AI/AN) tribes and organizations for conducting research in their communities in order to address health disparities, and to develop a cadre of competitive AI/AN scientists and health professionals. The data collected by SIRS will provide valuable information for the following purposes: (1) evaluation of progress by individual grantees towards achieving grantee-designated and program-specified goals and objectives, (2) evaluation of the overall program for effectiveness, efficiency, and impact in building biomedical research capacity and capability, and (3) analysis of outcome measures to determine need for refinements and/or adjustments of different program features including but not limited to initiatives and eligibility criteria. Data collected from SIRS will be used for various regular or ad hoc reporting requests from interested stakeholders that include members of Congress, state and local officials, other federal agencies, professional societies, media, and other parties.

OMB approval is requested for three years. There are no costs to respondents other than their time. The total estimated annualized burden hours are 841.

Estimated Annualized Burden Hours
Form name | Type of respondent | Number of respondents | Number of responses per respondent | Average time per response (in hours) | Total annual burden hours
SIRS | Principal Investigators, COBRE Phase I | 54 | 1 | 4 | 216
SIRS | Principal Investigators, COBRE Phase II | 34 | 1 | 4 | 136
SIRS | Principal Investigators, COBRE Phase III | 54 | 1 | 4 | 216
SIRS | Principal Investigators, INBRE | 24 | 1 | 6 | 144
SIRS | Principal Investigators, IDeA-CTR | 11 | 1 | 4 | 44
SIRS | Principal Investigators, NARCH | 17 | 1 | 5 | 85
| Total | 194 | 194 |  | 841

Dated: August 8, 2022.
David N. Bochner,
Project Clearance Liaison, National Institute of General Medical Sciences, National Institutes of Health.

[FR Doc. 2022-17377 Filed 8-11-22; 8:45 am]

BILLING CODE 4140-01-P